DEPARTMENT OF ENERGY

Federal Energy Regulatory Commission

[Docket No. EL12-59-000]

Golden Spread Electric Cooperative, Inc. v. Southwestern Public Service Company; Notice of Complaint

Take notice that on April 20, 2012, pursuant to sections 201, 206, and 306 of the Federal Power Act, 16 U.S.C. 824, 824e and 825e, and Rule 206 of the Rules of Practice and Procedure of the Federal Energy Regulatory Commission (Commission), 18 CFR 385.206, Golden Spread Electric Cooperative, Inc. (Complainant or Golden Spread) filed a formal complaint against Southwestern Public Service Company (Respondent or SPS) alleges that the formula rate of Replacement Power Sales Agreement (RPSA) by and between Golden Spread and SPS and that the formula rate of the Xcel Joint Energy Open Access Tariff applicable to pricing of transmission service over the facilities of SPS contain an unjust and unreasonable return on equity (ROE), contrary section 205 of the Federal Power Act. Golden Spread requests a determination that the appropriate base ROE for both the RPSA and the transmission formula rate should set at 9.15%.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on May 10, 2012.

Dated: April 23, 2012.
Nathaniel J. Davis, Sr.,
Deputy Secretary

[FR Doc. 2012-10181 Filed 4-26-12; 8:45 am]

BILLING CODE 6717-01-P